DEPARTMENT OF ENERGY

Federal Energy Regulatory Commission

Combined Notice of Filings

Take notice that the Commission has received the following Natural Gas Pipeline Rate and Refund Report filings:

Filings Instituting Proceedings

Docket Numbers: CP17-40-003.

Applicants: Spire STL Pipeline LLC.

Description: Abbreviated Application for Limited Amendment of Certificate of Public Convenience and Necessity.

Filed Date: 5/2/19.

Accession Number: 20190502-5138.

Comments Due: 5 p.m. ET 5/23/19.

Docket Numbers: RP19-165-002.

Applicants: WBI Energy Transmission, Inc.

Description: Compliance filing 2019 Motion Filing to be effective 5/1/2019.

Filed Date: 5/1/19.

Accession Number: 20190501-5007.

Comments Due: 5 p.m. ET 5/13/19.

Docket Numbers: RP19-1214-000.

Applicants: Enable Gas Transmission, LLC.

Description: § 4(d) Rate Filing: Negotiated Rate Filing—May 7 2019 Encana 1011022 to be effective 5/7/2019.

Filed Date: 5/7/19.

Accession Number: 20190507-5042.

Comments Due: 5 p.m. ET 5/20/19.

Docket Numbers: RP19-1215-000.

Applicants: Cameron Interstate Pipeline, LLC.

Description: Annual Report of Interruptible Transportation Revenue Sharing of Cameron Interstate Pipeline, LLC under RP19-1215.

Filed Date: 5/7/19.

Accession Number: 20190507-5152.

Comments Due: 5 p.m. ET 5/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2019..
Nathaniel J. Davis, Sr.,
Deputy Secretary.

[FR Doc. 2019-09880 Filed 5-13-19; 8:45 am]

BILLING CODE 6717-01-P